DEPARTMENT OF COMMERCE

National Institute of Standards and Technology

Agency Information Collection Activities; Submission to the Office of Management and Budget (OMB) for Review and Approval; Comment Request; Domestic Manufacturing Waiver Request Form

AGENCY: National Institute of Standards and Technology (NIST), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 5, 2024.

ADDRESSES: Interested persons are invited to submit written comments by mail to Elizabeth Reinhart, Management Analyst, NIST, 100 Bureau Drive, Gaithersburg, MD 20899, or by email to PRAcomments@doc.gov. Do not submit Confidential Business Information or otherwise sensitive or protected information.

FOR FURTHER INFORMATION CONTACT: Requests for additional information or specific questions related to collection activities should be directed to Bethany Loftin, Interagency and iEdison Specialist, National Institute of Standards and Technology, 100 Bureau Drive, Gaithersburg, MD 20899, 202-941-7750, bethany.loftin@nist.gov.

SUPPLEMENTARY INFORMATION:

I. Abstract

The Bayh-Dole Act (35 U.S.C. 18) and its implementing regulations (37 CFR 401) allow for recipients of federal research funding (Contractors) to retain ownership of inventions developed under federal funding agreements (Subject Inventions). In exchange, the government retains certain rights to the Subject Invention, including a world-wide right to use by or on behalf of the U.S. government, and the Contractor also has certain responsibilities and obligations. Among these obligations is a requirement that in certain circumstances products embodying the Subject Invention or produced through the use of the Subject Invention be manufactured substantially in the United States. The statute also allows the Contractor to request a waiver of this obligation if reasonable but unsuccessful efforts were made to grant licenses on similar terms to potential licensees that would be likely to manufacture substantially in the United States or if under the circumstances domestic manufacture is not commercially feasible. This information collection will be utilized as a common form, which will allow other Federal agencies to request use.

II. Method of Collection

The form will be provided in PDF format. It may be submitted to funding agencies via email, via an attachment to a Domestic Manufacturing Waiver Request in the iEdison online reporting system if the agency participates in the iEdison online reporting system, or via other electronic transmission if the agency does not participate in the iEdison reporting system.

III. Data

OMB Control Number: 0693-XXXX.

Form Number(s): None.

Type of Review: Regular submission of a new Common Form.

Affected Public: Business or other for-profit organizations; not-for-profit institutions; State, local, or Tribal government.

Estimated Number of Respondents: 10.

Estimated Time per Response: 13 hours.

Estimated Total Annual Burden Hours: 130 hours.

Estimated Total Annual Cost to Public: $6355.00

Respondent's Obligation: Mandatory to obtain benefits.

Legal Authority: 35 U.S.C. 204.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-26910 Filed 12-6-23; 8:45 am]

BILLING CODE 3510-13-P